DEPARTMENT OF HEALTH AND HUMAN SERVICES

Administration for Children and Families

Proposed Information Collection Activity; Comment Request

Title: Personal Responsibility Education Program (PREP) Multi-Component Evaluation—Data Collection Related to the Design and Implementation Study.

OMB No.: 0970-0398.

Description: The Office of Data Analysis, Research, and Evaluation (HHS/ACF/ACYF/ODARE) in the Administration for Children, Youth and Families (ACYF) and the Office of Planning, Research, and Evaluation (HHS/ACF/OPRE) in the Administration for Children and Families (ACF) propose a data collection activity as part of the Personal Responsibility Education Program (PREP) Multi-Component Evaluation.

The goals of the PREP Multi-Component Evaluation are to document how PREP programs are designed and implemented in the field, collect performance measure data for PREP programs, and assess the effectiveness of selected PREP-funded programs.

The PREP Multi-Component Evaluation contains three components: The “Design and Implementation Study,” the “Performance Analysis Study,” and the “Impact and In-Depth Implementation Study.” Previously approved data collection efforts for each of the three components can be found on reginfo.gov. This notice is specific to data collection activities for the implementation portion of the Design and Implementation Study.

The goals of this portion of the study are to document how States and sub-awardees actually implemented their PREP programs, given their program designs. In order to meet this goal, both State PREP Administrators and a selection of sub-awardee program providers, across the nation, will be interviewed. The interviews will be used to understand important aspects of implementation, such as training, technical assistance and program fidelity monitoring.

Respondents: State PREP Administrators; Program Providers

Annual Burden Estimates
Instrument | Total number of respondents | Annual number of respondents | Number of responses per respondent | Average burden hours per response | Estimated annual burden hours
Design and Implementation Study: Implementation Survey
State PREP Administrator survey | 45 | 15 | 1 | 1 | 15
Program Provider (Sub-awardee) survey | 50 | 17 | 1 | 1 | 17
Total |  |  |  |  | 32

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer, Administration for Children and Families.

[FR Doc. 2013-24578 Filed 10-21-13; 8:45 am]

BILLING CODE 4184-01-P